DEPARTMENT OF TRANSPORTATION

Federal Motor Carrier Safety Administration

[Docket No. FMCSA-2002-11733]

Agency Information Collection Submission for OMB Review: Notice of Request for Renewal of a Currently-Approved Information Collection: Federal Motor Carrier Safety Regulations, Accident Recordkeeping Requirements

AGENCY: Federal Motor Carrier Safety Administration (FMCSA), DOT.

ACTION: Notice.

SUMMARY: The FMCSA announces that the Information Collection Request (ICR) described in this notice is being sent to the Office of Management and Budget (OMB) for review and approval. On April 5, 2002, the FMCSA published a “Notice of Request for Renewal of a Currently Approved Information Collection: Federal Motor Carrier Safety Regulations, Accident Recordkeeping Requirements” in the Federal Register. Comments on the proposed information burden were solicited. No comments regarding the ICR were received. We are required to send ICRs to OMB under the Paperwork Reduction Act of 1995.

DATES: Please submit comments by August 26, 2002.

ADDRESSES: Send comments to the Office of Information and Regulatory Affairs, Office of Management and Budget, 725 Seventeenth Street, NW., Washington, DC 20503, Attention: DOT Desk Officer. We particularly request your comments on whether the collection of information is necessary for the FMCSA to meet its goal of reducing truck crashes, including whether the information is useful to this goal; the accuracy of the estimate of the burden of the information collection; ways to enhance the quality, utility and clarity of the information collected; and ways to minimize the burden of the collection of information on respondents, including the use of automated collection techniques or other forms of information technology.

FOR FURTHER INFORMATION CONTACT: Ms. Deborah M. Freund, Office of Motor Carrier Research and Standards, (202) 366-4009, Department of Transportation, Federal Motor Carrier Safety Administration, 400 Seventh Street, SW., Washington, DC 20590. Office hours are from 7:45 a.m. to 4:15 p.m., e.t. Monday through Friday, except Federal holidays.

SUPPLEMENTARY INFORMATION: Title: Accident Recordkeeping Requirements.

OMB Number: 2126-0009.

Background: The Federal Motor Carrier Safety Regulations (FMCSRs), at section 390.15 of title 49 of the Code of Federal Regulations (CFR), require motor carriers to make all records and information pertaining to crashes (accidents) available to an authorized representative or special agent of the FMCSA upon request or as part of an inquiry. For the purposes of § 390.15, the word “accident” is defined as an occurrence involving a commercial motor vehicle operating on a public road in interstate or intrastate commerce which results in: (1) A fatality; (2) bodily injury to a person who, as a result of the injury, receives medical treatment away from the scene of the accident; or (3) one or more motor vehicles incurring disabling damage as a result of the accident, requiring the motor vehicle to be transported away from the scene by a tow truck or other motor vehicle (49 CFR 390.5). Occurrences involving only boarding and alighting from a stationary motor vehicle or involving only the loading or unloading of cargo are not included in the definition.

Motor carriers are required to maintain an accident register for one year after the date of the accident. The register must include a list of each accident. The information for each accident must include, at a minimum, the following elements: date of accident; city or town in which or most near where the accident occurred and the State in which the accident occurred; driver name; number of injuries; number of fatalities; and whether hazardous materials, other than fuel spilled from the fuel tanks of motor vehicles involved in the accident, were released. In addition, the register must contain copies of all accident reports required by State or other governmental entities or insurers.

There are no prescribed forms. The records are used by the FMCSA and its representatives as a source of information for investigations or special studies, and to assess the effectiveness of motor carriers' safety management controls.

Respondents: Motor carriers.

Estimated Burden: The FMCSA estimates approximately 155,000 accidents involving trucks and 17,000 accidents involving buses as defined in section 390.5 of the FMCSRs occur annually (source: National Highway Traffic Safety Administration General Estimates System). Of these, approximately 80 percent involve trucks and buses operated by interstate motor carriers. About 85 percent of the buses involved in crashes are school or transit buses and are not subject to this recordkeeping requirement. The number of accidents is therefore estimated to be 126,040 (124,000 (0.80 × 155,000) + 2,040 (0.80 × 0.15 × 17,000) = 126,040).

The agency estimates it takes approximately 18 minutes for interstate motor carriers to collect and record the seven elements of information on the accident register. Based on these assumptions, the agency estimates a time burden of 37,812 hours (126,040 × 18 minutes divided by 60 minutes) per year for accident report register information.

Authority: The Paperwork Reduction Act of 1995; 44 U.S.C. chapter 35, as amended; and 49 CFR 1.73.

Issued on: July 19, 2002.
Joseph M. Clapp,
Administrator.

[FR Doc. 02-18918 Filed 7-25-02; 8:45 am]

BILLING CODE 4910-EX-P